DEPARTMENT OF AGRICULTURE

Food and Nutrition Service

7 CFR Parts 250 and 251

General Regulations and Policies—Food Distribution

CFR Correction

In Title 7 of the Code of Federal Regulations, parts 210 to 299, revised as of January 1, 2000, make the following corrections:

(1) Section 250.3 is corrected by removing the definition of State and United States in the effective date note on page 414, first column, and adding it to the codified text below the definition of Situation of distress on page 413 to read as follows:

§ 250.3 Definitions.

* * * * *

State and United States means any one of the 50 States, the District of Columbia, Puerto Rico, the Virgin Islands, Guam, American Samoa, and the Trust Territory of the Pacific Islands.

* * * * *

(2) Section 251.10 is corrected in paragraph (f)(3) by removing the words “emergency feeding organization or distribution site” and adding in their place “eligible recipient agency” and in paragraph (f)(4) by removing the words “or distribution site”.

[FR Doc. 00-55518 Filed 11-1-00; 8:45 am]

BILLING CODE 1505-01-D